DEPARTMENT OF THE INTERIOR

Bureau of Land Management

[AK-910-07-1739-NSSI]

Notice of Public Meeting, North Slope Science Initiative, Science Technical Advisory Panel, AK

AGENCY: Bureau of Land Management, Alaska State Office, North Slope Science Initiative, Interior.

ACTION: Notice of public meeting in Anchorage, Alaska.

SUMMARY: In accordance with the Federal Land Policy and Management Act (FLPMA) and the Federal Advisory Committee Act of 1972 (FACA), the U.S. Department of the Interior's North Slope Science Initiative (NSSI) Science Technical Advisory Panel (STAP) will meet as indicated below.

DATES: The meeting will be held September 27, 2007, in Anchorage, Alaska. The meeting will begin at 9 a.m. in the Bureau of Land Management's Denali Room, 4th Floor, Federal Building and U.S. Courthouse, 222 West 7th Avenue. Public comment period will begin at 3:30 p.m.

FOR FURTHER INFORMATION CONTACT: John F. Payne, Director, North Slope Science Initiative (910), c/o Bureau of Land Management, 222 W. Seventh Avenue, #13, Anchorage, Alaska 99513. Telephone (907) 271-3431 or e-mail john_f_payne@blm.gov.

SUPPLEMENTARY INFORMATION: The North Slope Science Initiative's Science Technical Advisory Panel provides advice and recommendations to the North Slope Science Oversight Group (OG) regarding priority needs for management decisions across the North Slope of Alaska. These priority needs may include recommendations on inventory, monitoring and research activities that contribute to informed land management decisions. At this meeting, topics for discussion include:

• Status of NSSI membership, budget, and review of fiscal year 2007.

• Review of STAP membership.

• Organization of the STAP and subgroups.

• Functionality of the STAP in relation to the OG.

• Relationship of NSSI staff committee to the STAP.

• Current charter and call for nominations.

• Expectations of the STAP.

• Other topics the OG or STAP may introduce.

All meetings are open to the public and have time allotted for hearing public comments. Depending on the number of persons wishing to comment and time available, the time for individual oral comments may be limited. The public may present written comments to the Science Technical Advisory Panel. Before including your address, phone number, e-mail address, or other personal identifying information in your comment, you should be aware that your entire comment—including your personal identifying information—may be made publicly available at any time. While you can ask us in your comment to withhold your personal identifying information from public review, we cannot guarantee that we will be able to do so.

Individuals who plan to attend and need special assistance, such as sign language interpretation, transportation, or other reasonable accommodations, should contact the North Slope Science Initiative staff at (907) 271-3431 or e-mail john_f_payne@blm.gov.

Dated: August 24, 2007.
Julia Dougan,
Acting State Director.

[FR Doc. E7-17169 Filed 8-29-07; 8:45 am]

BILLING CODE 4310-JA-P